DEPARTMENT OF ENERGY

Federal Energy Regulatory Commission

Notice of Commission Staff Attendance

The Federal Energy Regulatory Commission hereby gives notice that members of the Commission's staff may attend the following meetings and/or teleconferences related to the transmission planning activities of the Southwest Power Pool, Inc. (SPP):

Finance Committee Task Force on Order 1000

June 26, 2012, 10:00 a.m.-3 p.m. CDT

Regional Tariff Working Group

June 28, 2012, 8:30 a.m.-2 p.m. CDT

July 25, 2012, 1 p.m.-5 p.m. CDT

July 26, 2012, 8:30 a.m.-2 p.m. CDT

Seams FERC Order 1000 Task Force

June 29, 2012, 2:00 p.m.-4:00 p.m.

July 13, 2012, 10:00 a.m.-12:00 p.m. CDT

The above-referenced meetings will be held at:

AEP Offices, 1201 Elm Street, 8th Floor, Dallas, TX 75270.

The above-referenced meetings and teleconferences are open to stakeholders.

Further information may be found at www.spp.org.

The discussions at the meetings and teleconferences described above may address matters at issue in the following proceedings:

Docket No. ER09-35-001, Tallgrass Transmission, LLC.

Docket No. ER09-36-001, Prairie Wind Transmission, LLC.

Docket No. ER09-548-001, ITC Great Plains, LLC.

Docket No. ER11-4105-000, Southwest Power Pool, Inc.

Docket No. EL11-34-001, Midwest Independent Transmission System Operator, Inc.

Docket No. ER12-1179-000, Southwest Power Pool, Inc.

Docket No. ER12-1415-000, Southwest Power Pool, Inc.

Docket No. ER12-1460-000, Southwest Power Pool, Inc.

Docket No. ER12-1610-000, Southwest Power Pool, Inc.

Docket No. ER12-1772-000, Southwest Power Pool, Inc.

For more information, contact Luciano Lima, Office of Energy Markets Regulation, Federal Energy Regulatory Commission at (202) 502-6210 or luciano.lima@ferc.gov.

Dated: June 21, 2012.
Kimberly D. Bose,
Secretary.

[FR Doc. 2012-15835 Filed 6-27-12; 8:45 am]

BILLING CODE 6717-01-P